OFFICE OF PERSONNEL MANAGEMENT

Excepted Service

AGENCY: Office of Personnel Management (OPM).

ACTION: Notice.

SUMMARY: This notice identifies Schedule A, B, and C appointing authorities applicable to a single agency that were established or revoked from December 1, 2019 to December 31, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

11. Department of Homeland Security (Sch. A, 213.3111)

(d) General—

(1) Not to exceed 800 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be in the following occupations: Security (GS-0080), Intelligence Analysts (GS-0132), Investigators (GS-1810), Investigative Analysts (GS-1805), and Criminal Investigators (GS-1811) at the General Schedule (GS) grade levels 09-15. No new appointments may be made under this authority after January 5, 2021 or the effective date of the completion of regulations implementing the Border Patrol Agency Pay Reform Act of 2014 or, whichever comes first.

Schedule B

No Schedule B Authorities to report during December 2019.

Schedule C

The following Schedule C appointing authorities were approved during December 2019.

Agency name | Organization name | Position title | Authorization No. | Effective date
DEPARTMENT OF AGRICULTURE | Office of the Assistant Secretary for Congressional Relations | Congressional and Policy Advisor | DA200024 | 12/03/2019
| Office of the Under Secretary for Rural Development | Confidential Assistant | DA200025 | 12/03/2019
| Office of the Secretary | Special Assistant | DA200028 | 12/17/2019
DEPARTMENT OF COMMERCE | Office of the General Counsel | Counsel | DC190157 | 12/03/2019
| Office of Public Affairs | Deputy Press Secretary | DC200017 | 12/11/2019
| Bureau of Industry and Security | Director of Congressional and Public Affairs | DC200022 | 12/13/2019
DEPARTMENT OF DEFENSE | Office of the Secretary | Special Assistant | DD200041 | 12/05/2019
| Office of the Assistant Secretary of Defense (Legislative Affairs) | Special Assistant (LA) | DD200046 | 12/09/2019
DEPARTMENT OF THE ARMY | Office Assistant Secretary Army (Installations, Energy and Environment) | Special Assistant (Installations, Energy and Environment) | DW200015 | 12/09/2019
DEPARTMENT OF EDUCATION | Office of Legislation and Congressional Affairs | Confidential Assistant | DB200006 | 12/05/2019
| Office of the Secretary | Confidential Assistant | DB200012 | 12/03/2019
|  | Special Assistant (3) | DB200008 DB200009 DB200010 | 12/05/2019 12/05/2019 12/11/2019
DEPARTMENT OF ENERGY | Office of the Assistant Secretary for Fossil Energy | Chief of Staff | DE200028 | 12/03/2019
| Office of Science | Senior Advisor | DE200036 | 12/03/2019
| Office of the Assistant Secretary for Energy Efficiency and Renewable Energy | Chief of Staff | DE200033 | 12/04/2019
| Office of Economic Impact and Diversity | Chief, Energy Workforce Division | DE200024 | 12/09/2019
| Office of General Counsel | Attorney-Advisor | DE200044 | 12/09/2019
|  | Counselor | DE200046 | 12/09/2019
| Office of the Secretary. | Deputy Chief of Staff | DE200047 | 12/09/2019
| Office of Cybersecurity, Energy Security and Emergency Response | Special Assistant for Integration Services | DE200038 | 12/19/2019
| Office of Policy | Deputy Director | DE200051 | 12/20/2019
ENVIRONMENTAL PROTECTION AGENCY | Office of the Assistant Administrator for Air and Radiation | Special Assistant for the Office of Air and Radiation | EP200014 | 12/03/2019
| Office of the Associate Administrator for Policy | Deputy Associate Administrator for Strategic Planning | EP200019 | 12/13/2019
| Office of the Assistant Administrator for Enforcement and Compliance Assurance | Policy Advisor | EP200024 | 12/19/2019
FEDERAL HOUSING FINANCE AGENCY | Office of Director | Senior Congressional Affairs Advisor | HA200003 | 12/02/2019
GENERAL SERVICES ADMINISTRATION | Office of Congressional and Intergovernmental Affairs | Deputy Associate Administrator for Congressional and Intergovernmental Affairs | GS200002 | 12/17/2019
DEPARTMENT OF HEALTH AND HUMAN SERVICES | Office of the Administration for Children and Families | Senior Advisor for Communications | DH200035 | 12/03/2019
| Office of the Assistant Secretary for Public Affairs | Deputy Assistant Secretary, National Spokesperson | DH200042 | 12/04/2019
| Office of Intergovernmental and External Affairs | Director of External Affairs | DH200041 | 12/05/2019
| Office of the Assistant Secretary for Financial Resources | Associate Deputy Assistant Secretary | DH200038 | 12/06/2019
| Office of the Assistant Secretary for Legislation | Policy Advisor—Oversight and Investigations | DH200045 | 12/11/2019
| Office of the Secretary | Deputy White House Liaison | DH200046 | 12/12/2019
| Office of the Assistant Secretary for Financial Resources | Chief of Staff, Office of the Assistant Secretary for Financial Resources | DH200044 | 12/13/2019
| Office of the Secretary | Special Assistant for Operations and Strategy | DH200040 | 12/17/2019
|  | Special Assistant | DH200050 | 12/17/2019
DEPARTMENT OF HOMELAND SECURITY | Office of the Assistant Secretary for Policy | Confidential Assistant | DM200054 | 12/03/2019
| Office of the General Counsel | Deputy General Counsel | DM200058 | 12/11/2019
| Office of United States Citizenship and Immigration Services | Senior Policy Advisor | DM200061 | 12/13/2019
|  | Advisor | DM200064 | 12/13/2019
| Office of Partnership and Engagement | Special Assistant | DM200018 | 12/19/2019
DEPARTMENT OF HOUSING AND URBAN DEVELOPMENT | Office of Congressional and Intergovernmental Relations | Congressional Relations | DU200016 | 12/03/2019
| Office of Public Affairs | Press Secretary | DU200034 | 12/09/2019
| Office of Housing | Senior Advisor | DU200009 | 12/11/2019
| Office of Community Planning and Development | Senior Policy Advisor | DU200037 | 12/17/2019
DEPARTMENT OF THE INTERIOR | Secretary's Immediate Office | Advisor | DI200016 | 12/03/2019
|  | Deputy Press Secretary | DI200018 | 12/11/2019
DEPARTMENT OF JUSTICE | Office of the Antitrust Division | Counsel | DJ190243 | 12/17/2019
| Office of Justice Programs | Legislative Assistant | DJ190239 | 12/04/2019
|  | Senior Advisor | DJ200026 | 12/12/2019
| Office of Legal Policy | Senior Counsel | DJ200033 | 12/05/2019
| Office of Public Affairs | Senior Advisor | DJ200001 | 12/03/2019
NATIONAL AERONAUTICS AND SPACE ADMINISTRATION | Office of Legislative and Intergovernmental Affairs | Regional Affairs Specialist | NN200012 | 12/11/2019
NATIONAL TRANSPORTATION SAFETY BOARD | Office of Board Members | Confidential Assistant | TB200003 | 12/09/2019
OFFICE OF MANAGEMENT AND BUDGET | Office of E-Government and Information Technology | Special Assistant | BO200013 | 12/05/2019
| Office of Information and Regulatory Affairs | Confidential Assistant | BO200016 | 12/13/2019
| Office of the Director | Senior Advisor | BO200017 | 12/13/2019
OFFICE OF PERSONNEL MANAGEMENT | Office of Communications | Senior Press Officer | PM200001 | 12/10/2019
| Office of the Director | Clerk | PM200010 | 12/20/2019
|  | Confidential Clerk | PM200011 | 12/20/2019
OFFICE OF SCIENCE AND TECHNOLOGY POLICY | Office of Science and Technology Policy | Press Secretary | TS200002 | 12/19/2019
SECURITIES AND EXCHANGE COMMISSION | Office of the Chairman | Confidential Assistant | SE200002 | 12/05/2019
DEPARTMENT OF STATE | Office of the Secretary | Staff Assistant | DS200017 | 12/03/2019
|  | Senior Advisor (2) | DS200018 DS200019 | 12/04/2019 12/09/2019
| Office of the Legal Advisor | Attorney Advisor | DS200023 | 12/19/2019
| Office of the Chief of Protocol | Protocol Officer (Gifts) | DS200025 | 12/19/2019
DEPARTMENT OF TRANSPORTATION | Office of the Chief Information Officer | Associate Director for Technology and Information Services | DT200034 | 12/11/2019
DEPARTMENT OF THE TREASURY | Office of the General Counsel | Special Assistant | DY200017 | 12/03/2019
| Office of the Assistant Secretary (Legislative Affairs) | Special Advisor | DY200021 | 12/19/2019
UNITED STATES INTERNATIONAL TRADE COMMISSION | Office of Commissioner Karpel | Staff Assistant (Legal) | TC200006 | 12/03/2019

The following Schedule C appointing authorities were revoked during December 2019.

Agency name | Organization name | Position title | Request No. | Date vacated
DEPARTMENT OF AGRICULTURE | Office of the Under Secretary for Farm Production and Conservation | Policy Advisor | DA190163 | 12/06/2019
| Farm Service Agency | State Executive Director—Tennessee | DA180061 | 12/13/2019
| Office of the Assistant Secretary for Congressional Relations | Congressional and Policy Advisor | DA190144 | 12/31/2019
| Office of the Secretary | Advance Lead Special Assistant | DA190057 DA190200 | 12/07/2019 12/21/2019
| Office of the Under Secretary for Rural Development | Confidential Assistant | DA190037 | 12/07/2019
| Rural Housing Service | State Director—New Mexico | DA180018 | 12/20/2019
OFFICE OF THE SECRETARY OF DEFENSE | Office of the Assistant Secretary of Defense (International Security Affairs) | Special Assistant | DD170208 | 12/02/2019
| Office of the Secretary of Defense | Advance Officer | DD190018 | 12/07/2019
| Office of the Under Secretary of Defense (Personnel and Readiness) | Special Assistant | DD190184 | 12/07/2019
| Office of the Under Secretary of Defense (Policy) | Special Assistant | DD190073 | 12/07/2019
| Washington Headquarters Services | Defense Fellow (2) | DD180142 DD190002 | 12/07/2019 12/08/2019
DEPARTMENT OF EDUCATION | Office of Planning, Evaluation and Policy Development | Confidential Assistant | DB180020 | 12/07/2019
| Office of the General Counsel | Attorney Advisor (2) | DB190107 DB190068 | 12/07/2019 12/14/2019
DEPARTMENT OF HEALTH AND HUMAN SERVICES | Office of Intergovernmental and External Affairs | Senior Advisor for External Affairs | DH190011 | 12/07/2019
| Office of the Assistant Secretary for Financial Resources | Director—Appropriations Liaison | DH190111 | 12/07/2019
| Office of the Assistant Secretary for Public Affairs | Senior Advisor and National Spokesperson | DH190198 | 12/07/2019
| Office of the Secretary | Deputy White House Liaison | DH200016 | 12/06/2019
|  | Deputy Scheduler | DH190110 | 12/14/2019
DEPARTMENT OF HOUSING AND URBAN DEVELOPMENT | Office of Community Planning and Development | Advisor | DU190080 | 12/28/2019
| Office of Congressional and Intergovernmental Relations | Congressional Relations Specialist | DU190117 | 12/07/2019
| Office of Fair Housing and Equal Opportunity | Senior Advisor | DU190023 | 12/07/2019
| Office of the Chief Financial Officer | Senior Advisor to the Chief Financial Officer | DU180072 | 12/07/2019
| Office of the Secretary | Special Policy Assistant | DU190037 | 12/07/2019
DEPARTMENT OF JUSTICE | Office of Legal Policy | Counsel (2) | DJ190029 DJ180111 | 12/16/2019 12/21/2019
DEPARTMENT OF LABOR | Office of the Chief Financial Officer | Chief of Staff | DL190048 | 12/14/2019
DEPARTMENT OF THE TREASURY | Secretary of the Treasury | Director of Scheduling and Advance | DY190085 | 12/08/2019
ENVIRONMENTAL PROTECTION AGENCY | Office of the Associate Administrator for Policy | Policy Advisor | EP190071 | 12/01/2019
EXPORT-IMPORT BANK | Office of Congressional and Intergovernmental Affairs | Senior Advisor | EB190004 | 12/21/2019
GENERAL SERVICES ADMINISTRATION | Office of the General Counsel | Senior Counsel | GS190034 | 12/28/2019
OFFICE OF MANAGEMENT AND BUDGET | Office of the Director | Special Assistant to the Director and Chief of Staff | BO170092 | 12/27/2019
| Office of Legislative Affairs | Legislative Analyst | BO180027 | 12/28/2019
OFFICE OF PERSONNEL MANAGEMENT | Office of Communications | Press Officer | PM180063 | 12/21/2019
| President's Commission on White House Fellowships | Deputy Director, President's Commission on White House Fellowships | PM200003 | 12/27/2019

Authority: 5 U.S.C. 3301 and 3302; E.O. 10577, 3 CFR, 1954-1958 Comp., p. 218.

Office of Personnel Management.
Alexys Stanley,
Regulatory Affairs Analyst.

[FR Doc. 2020-06889 Filed 4-1-20; 8:45 am]

BILLING CODE 6325-39-P